ENVIRONMENTAL PROTECTION AGENCY

[EPA-HQ-OPP-2005-0123; FRL-8805-9]

Methyl Bromide; Amendments to Terminate Uses

AGENCY: Environmental Protection Agency (EPA).

ACTION: Notice.

SUMMARY: This notice announces EPA's order for the amendments to terminate uses, voluntarily requested by the registrants and accepted by the Agency, of products containing the pesticide methyl bromide listed in Table 1, pursuant to section 6(f)(1) of the Federal Insecticide, Fungicide, and Rodenticide Act (FIFRA), as amended. This order follows a September 30, 2009 Federal Register Notice of Receipt of Requests from the registrants listed in Table 2 to amend to terminate post-harvest methyl bromide uses in or on alfalfa hay and cottonseed for these product registrations. These are the last products containing the pesticide methyl bromide registered for use on alfalfa hay and cotton seed in the United States. In the September 30, 2009 notice, EPA indicated that it would issue an order implementing the amendments to terminate uses, unless the Agency received substantive comments within the 30-day comment period that would merit its further review of these requests, or unless the registrants withdrew their requests within this period. The Agency did not receive any comments on the notice. Further, the registrants did not withdraw their requests. Accordingly, EPA hereby issues in this notice a cancellation order granting the requested amendments to terminate uses. Any distribution, sale, or use of the products subject to this cancellation order is permitted only in accordance with the terms of this order, including any existing stocks provisions.

DATES: The cancellations are effective February 3, 2010.

FOR FURTHER INFORMATION CONTACT: Susan Bartow, Pesticide Re-evaluation Division (7508P), Office of Pesticide Programs, Environmental Protection Agency, 1200 Pennsylvania Ave., NW., Washington, DC 20460-0001; telephone number: (703) 603-0065; fax number: (703) 308-8090; e-mail address: bartow.suan@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

EPA has established a docket for this action under docket identification (ID) number EPA-HQ-OPP-2005-0123. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What Action is the Agency Taking?

This notice announces the amendments to terminate uses, as requested by registrants, of products registered under section 3 of FIFRA. These registrations are listed in ascending order by registration number in Table 1 of this unit.

Table 1.—Methyl Bromide Product Registration Amendments to Terminate Uses
EPA Registration Number | Product Name
5785-11 | Meth-O-Gas 100
5785-41 | Meth-O-Gas Q
8536-15 | Methyl Bromide 100
8536-29 | Methyl Bromide Quarantine Fumigant
8622-16 | Metabrom 100
8622-55 | Metabrom Q

Table 2 of this unit includes the names and addresses of record for all registrants of the products in Table 1 of this unit, in ascending order by EPA company number.

Table 2.—Registrants of Amended Products
EPA Company Number | Company Name and Address
5785 | Great Lakes Chemical Corporation P.O. Box 2200 West Lafayette, IN 47996-2200
8536 | Soil Chemicals Corporation (doing business as Cardinal Professional Products) P.O. Box 782 Hollister, CA 95024-9487
8622 | ICL-IP America, Inc. 95 MacCorkle Avenue, S.W. South Charleston, WV 25303-1411

III. Summary of Public Comments Received and Agency Response to Comments

During the public comment period provided, EPA received no comments in response to the September 30, 2009 Federal Register notice announcing the Agency's receipt of the requests for amendments to terminate uses of products listed in Table 1.

IV. Cancellation Order

Pursuant to FIFRA section 6(f), EPA hereby approves the requested amendments to terminate uses of methyl bromide registrations identified in Table 1 of Unit II. Accordingly, the Agency orders that the product registrations identified in Table 1 of Unit II. are hereby amended to terminate the affected uses. Any distribution, sale, or use of existing stocks of the products identified in Table 1 of Unit II. in a manner inconsistent with any of the Provisions for Disposition of Existing Stocks set forth in Unit VI. will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

The registrants requested the following provisions for sale, distribution, and use of existing stocks and the Agency approves the requested provisions for sale, distribution, and use of existing stocks:

1. All sale or distribution by the registrant of existing stocks labeled for post-harvest alfalfa hay and post-harvest cottonseed uses is prohibited after October 31, 2009, unless that sale or distribution is solely for the purpose of facilitating disposal or export of the product.

2. Existing stocks labeled for post-harvest alfalfa hay and post-harvest cottonseed uses may be sold and distributed by persons other than the registrant until October 31, 2010.

3. Existing stocks labeled for post-harvest alfalfa hay and post-harvest cottonseed uses may be used until all such stocks are exhausted, provided that such use complies with the EPA-approved label of the product.

List of Subjects

Environmental protection, Pesticides and pests.

Dated: January 19, 2010.
Richard P. Keigwin, Jr.,
Director, Pesticide Re-evaluation Division, Office of Pesticide Programs.

[FR Doc. 2010-1991 Filed 2-2-10; 8:45 a.m.]

BILLING CODE 6560-50-S